DEPARTMENT OF LABOR

Employment and Training Administration

[TA-W-63,927]

Delfingen US, Inc., El Paso North Division, Formerly Known as M&Q Plastics Products, Also Known as Sofanou, Inc., El Paso, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on September 4, 2008, applicable to workers of Delfingen US, Inc., El Paso North Division, El Paso, Texas. The notice was published in the Federal Register on September 18, 2008 (73 FR 54173).

At the request of the State agency, the Department reviewed the certification for workers of the subject firm. The workers were engaged in employment related to the production of plastic tubing.

New information shows that in March 2008, Delfingen US, Inc. purchased M&Q Plastic Products. Currently some of the workers wages at the subject firm are being reported under several Unemployment Insurance (UI) tax accounts for Delfingen US, Inc., formerly known as M&Q Plastic Products, also known as Safanou, Inc.

Accordingly, the Department is amending this certification to properly reflect this matter.

The intent of the Department's certification is to include all workers of Delfingen US, Inc., El Paso North Division, formerly known as M&Q Plastic Products, also known as Safanou, Inc., El Paso, Texas who were adversely affected by a shift in production of plastic tubing to Mexico and the Philippines.

The amended notice applicable to TA-W-63,927 is hereby issued as follows:

All workers of Delfingen US, Inc., El Paso North Division, formerly known as M&Q Plastic Products, also known as Safanou, Inc., El Paso, Texas, who became totally or partially separated from employment on or after August 22, 2007, through September 4, 2010, are eligible to apply for adjustment assistance under Section 223 of the Trade Act of 1974 and are also eligible to apply for alternative trade adjustment assistance under Section 246 of the Trade Act of 1974.

Signed at Washington, DC, this 13th day of November 2008.
Elliott S. Kushner,
Certifying Officer, Division of Trade Adjustment Assistance.

[FR Doc. E8-27934 Filed 11-24-08; 8:45 am]

BILLING CODE 4510-FN-P